DEPARTMENT OF HEALTH AND HUMAN SERVICES

Centers for Disease Control and Prevention

Health Resources and Services Administration

CDC/HRSA Advisory Committee on HIV, Viral Hepatitis and STD Prevention and Treatment

In accordance with section 10(a)(2) of the Federal Advisory Committee Act (Pub. L. 92-463), the Centers for Disease Control and Prevention (CDC) and the Health Resources and Services Administration (HRSA) announce the following meeting of the aforementioned committee:

Times and Dates: 8:00 a.m.-5:30 p.m., June 18, 2013; 8:00 a.m.-2:30 p.m., June 19, 2013.

Place: CDC Corporate Square, Building 8, Conference Room 1-ABC, 8 Corporate Boulevard, Atlanta, Georgia 30329, Telephone: (404) 639-8317.

Status: Open to the public, limited only by the space available. The meeting room will accommodate approximately 100 people. This meeting is also accessible by teleconference. Toll-free +1 (866) 718-4584, Participant code: 8484551.

Status: Open to the public, limited only by the space available. The meeting room will accommodate approximately 100 people.

Purpose: This Committee is charged with advising the Director, CDC and the Administrator, HRSA, regarding activities related to prevention and control of HIV/AIDS, Viral Hepatitis and other STDs, the support of health care services to persons living with HIV/AIDS, and education of health professionals and the public about HIV/AIDS, Viral Hepatitis and other STDs.

Matters To Be Discussed: Agenda items include: (1) STD clinical preventive services in primary care setting and integrating STD screening and treatment services in HIV care settings); (2) The test and cure era for hepatitis C: The public health response to rising hepatitis C mortality; The impact of new therapies on health outcomes; and Building care capacity to increase access to hepatitis C virus (HCV) therapy; (3) HIV Medical Monitoring Project: follow up on Institute of Medicine (IOM) report and other Affordable Care Act (ACA) issues; (4) Recommendations for new HIV diagnostic laboratory testing algorithms; and (5) CHAC Workgroups Update.

Agenda items are subject to change as priorities dictate.

Contact Person for More Information: Margie Scott-Cseh, Centers for Disease Control and Prevention, National Center for HIV/AIDS, Viral Hepatitis, STD, and TB Prevention, 1600 Clifton Road NE., Mailstop E-07, Atlanta, Georgia 30333, Telephone (404) 639-8317.

The Director, Management Analysis and Services Office, has been delegated the authority to sign Federal Register Notices pertaining to announcements of meetings and other committee management activities, for both the Centers for Disease Control and Prevention and the Agency for Toxic Substances and Disease Registry.

Elaine L. Baker,
Director, Management Analysis and Services Office, Centers for Disease Control and Prevention.

[FR Doc. 2013-12857 Filed 5-29-13; 8:45 am]

BILLING CODE 4163-18-P